DEPARTMENT OF THE INTERIOR

National Park Service

[NPS-WASO-NAGPRA-NPS0037096; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History, University of Oklahoma (SNOMNH) has completed an inventory of human remains and associated funerary objects and has determined that there is a cultural affiliation between the human remains and associated funerary objects and Indian Tribes or Native Hawaiian organizations in this notice. The human remains and associated funerary objects were removed from LeFlore County, OK.

DATES: Repatriation of the human remains and associated funerary objects in this notice may occur on or after January 18, 2024.

ADDRESSES: Dr. Marc Levine, Associate Curator of Archeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH. The National Park Service is not responsible for the determinations in this notice. Additional information on the determinations in this notice, including the results of consultation, can be found in the inventory or related records held by the SNOMNH.

Description

In 1941, human remains representing, at minimum, 94 individuals were removed from the Hooks site (34Lf19) in LeFlore County, OK. Located southwest of Fanshawe, OK, the site was excavated by the Works Progress Administration (WPA) in 1941, and the associated finds were transferred to the SNOMNH (formerly known as the Stovall Museum of Science and History) that same year. The human remains and associated funerary objects from site 34Lf19 were interred during the Woodland Period (300 BC-A.D. 900). The human remains consist of, at minimum, 47 adult males, 15 adult females, 15 adults of indeterminate sex, and 17 children ranging in age from fetal to adolescent. The 174 associated funerary objects are one undecorated ceramic pot, one decorated potsherd, 10 undecorated potsherds, three stone knives, one Gary type projectile point, 50 projectile points, one scraper, one flake, five bone awls, three bone pins, one bone awl tip, one horn atlatl, five modified animal bones, 58 unmodified animal bones, 21 shell beads, one shell gorget, one modified shell, four stone double bit axes, one stone gorget, one stone gorget fragment, three groundstone fragments, and one paint stone.

In 1938, 1939, and 1969, human remains representing, at minimum, 154 individuals were removed from the Moore site (34Lf31) in LeFlore County, OK. The site is located approximately two miles north of the town of Spiro, OK, and within the floodplain of the Arkansas River. The Moore site was initially discovered—and severely disturbed—by a railroad that cut through the site in 1885. The site was later impacted by extensive farming activities and looting. The 1938 and 1939 excavations were carried out by the WPA, while the University of Oklahoma conducted additional salvage excavations in 1969. The associated finds were transferred to the SNOMNH following each excavation season. The human remains and funerary objects from site 34Lf31 were interred during the Fort Coffee phase (A.D. 1450-1650). The human remains consist of, at minimum, 34 adult females, 44 adult males, 28 adults of indeterminate sex, 40 children, and eight infants. The 315 associated funerary objects are: one ceramic pipe, one bag of charcoal from the aforementioned pipe, 42 undecorated ceramic vessels, 18 decorated ceramic vessels, one reconstructible decorated ceramic vessel, one undecorated partial vessel, 11 reconstructible undecorated ceramic vessels, 46 undecorated potsherds, three decorated potsherds, four bags of undecorated potsherds, 21 turquoise beads, one sandstone elbow pipe, 74 stone projectile points, 12 stone drills, one stone knife, one stone hoe, one unidentified stone tool, four stone tool fragments, 14 stone flakes, one bag of stone flakes, one modified stone, three red ochre fragments, seven pieces of quartz, six unmodified stones, eight faunal bone tools, four turtle shells, eight faunal jawbones, one modified fish bone, six faunal bones, five bags of faunal bones, three shell beads, two shells, two shell fragments, and one bag of shells.

In 1941, human remains representing, at minimum, two individuals were removed from the Geren site (34Lf36) in LeFlore County, OK. Located about one mile southwest of Spiro Mounds, this site was excavated by the WPA in 1941 and the associated finds were transferred to the SNOMNH that same year. The human remains and associated funerary objects from site 34Lf36 were interred during the Mississippian Period, and more specifically, during the local Spiro (A.D. 1350-1450) and Fort Coffee phases (A.D. 1450-1650). The human remains include one adult male, 35-50 years old, and one adult, older than 20 years, of indeterminate sex. The two associated funerary objects are one Fresno type projectile point and one side-notched Reed type projectile point.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, and historical information, as well as information provided through tribal consultation.

Determinations

Pursuant to NAGPRA and its implementing regulations, and after consultation with the appropriate Indian Tribes and Native Hawaiian organizations, the SNOMNH has determined that:

• The human remains described in this notice represent the physical remains of 250 individuals of Native American ancestry.

• The 491 objects described in this notice are reasonably believed to have been placed with or near individual human remains at the time of death or later as part of the death rite or ceremony.

• There is a relationship of shared group identity that can be reasonably traced between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice.

Authority: Native American Graves Protection and Repatriation Act, 25 U.S.C. 3003, and the implementing regulations, 43 CFR 10.9, 10.10, and 10.14.

Dated: December 8, 2023.
Melanie O'Brien,
Manager, National NAGPRA Program.

[FR Doc. 2023-27802 Filed 12-18-23; 8:45 am]

BILLING CODE 4312-52-P